DEPARTMENT OF AGRICULTURE

Food and Nutrition Service

Agency Information Collection Activities: Proposed Collection; Comment Request—Application of Schools Applying for Recognition Through HealthierUS School Challenge: Smarter Lunchrooms

AGENCY: Food and Nutrition Service (FNS), USDA.

ACTION: Notice.

SUMMARY: In accordance with the Paperwork Reduction Act of 1995, this notice invites the general public and other public agencies to comment on this proposed information collection. This collection is a new collection for reviewing and evaluating the practices of schools participating in both the National School Lunch and School Breakfast Programs as a part of their application for recognition through HealthierUS School Challenge: Smarter Lunchrooms. The goal is to highlight and recognize those schools that are achieving success above and beyond Federal meal pattern requirements in the areas of actively implementing smarter lunchroom techniques, Smart Snacks, nutrition education, physical education, local school wellness policies, and other criteria for excellence.

DATES: Written comments must be received on or before May 16, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Ebony James, Food and Nutrition Service, U.S. Department of Agriculture, 3101 Park Center Drive, Room 630, Alexandria, VA 22302. Comments may also be submitted via fax to the attention of Ebony James at 703-305-2549 or via email to Ebony.James@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 630, Alexandria, Virginia 22302.

All responses to this notice will be summarized and included in the request for Office of Management and Budget approval. All comments will be a matter of public record.

FOR FURTHER INFORMATION CONTACT: Requests for additional information or copies of this information collection should be directed to Ebony James at 703-305-2827.

SUPPLEMENTARY INFORMATION:

Title: HealthierUS School Challenge: Smarter Lunchrooms Application.

Form Number: FNS-779.

OMB Number: Not Yet Assigned.

Expiration Date: Not Yet Determined.

Type of Request: New collection.

Abstract: The HealthierUS School Challenge (HUSSC), begun in 2004, serves as a way to motivate and facilitate improvements in nutrition and physical activity in schools by collecting and sharing best practices. It also allows the Food and Nutrition Service (FNS) to showcase schools that have made positive steps in advancing implementation of wellness policies and the latest Dietary Guidelines for Americans and food guidance system. Research supports the use of both incentives and the recognition of good work to promote positive behavior and performance. Therefore, the foundation of the HealthierUS School Challenge: Smarter Lunchrooms (HUSSC: SL) initiative is based on four levels of excellence in nutrition and physical activity. Team Nutrition schools that voluntarily submit applications for one of HUSSC: SL's four levels of excellence, and meet the HUSSC: SL criteria, receive an award plaque, banner, monetary incentive, and national and community recognition of their accomplishments.

This information collection will inform how the Food and Nutrition Service develops policy and technical assistance regarding the school nutrition environment. Collective feedback from the schools submitting application forms will inform FNS on what is actually being implemented at the local level. An assessment of the information obtained from schools will help FNS to better target efforts to design science-based nutrient standards for school meals, develop training and nutrition education materials in support of Federal child nutrition programs, plan for program enhancements, and share descriptive information about best practices with other schools across the country; and will assist those schools in planning and implementing their own feasible, results-oriented practices. Ultimately, the information on the application forms will help FNS better meet the needs of its customers, strengthen the development of policy directed toward the administration's interest in eliminating childhood obesity and food insecurity, and enhance the health and nutritional status of the US population.

This application is currently approved under OMB Control No. 0584-0524 Generic Clearance to Conduct Formative Research (which expires June 30, 2016). FNS is now seeking approval for this application in its own information collection.

Affected Public: State, Local, and Tribal Government. Respondent groups identified include school and school district representatives.

Estimated Number of Respondents: FNS anticipates that 1,000 school or school district representatives will voluntarily submit HealthierUS School Challenge: Smarter Lunchrooms applications over a one year period (see chart).

Estimated Number of Responses per Respondent: The school or district representative will be asked to participate in completing one application form.

Estimated Total Annual Responses: 1,000.

Estimated Time per Response: 2 hours.

Estimated Total Annual Burden on Respondents: 2,000 hours.

See the table below for estimated total annual burden for the respondents.

Respondent | Estimated number of respondents | Responses annually per respondent | Total annual responses (Col. bxc) | Estimated average number of hours per response | Estimated total hours (Col. dxe)
Reporting Burden
School or School District Representative | 1,000 | 1 | 1,000 | 2 | 2,000
Total Reporting Burden | 1,000 |  | 1,000 |  | 2,000

Dated: March 8, 2016.
Audrey Rowe,
Administrator, Food and Nutrition Service.

[FR Doc. 2016-05893 Filed 3-15-16; 8:45 am]

BILLING CODE 3410-30-P